DEPARTMENT OF COMMERCE

Census Bureau

Agency Information Collection Activities; Submission to the Office of Management and Budget (OMB) for Review and Approval; Comment Request; School District Review Program

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on December 6, 2023, during a 60-day comment period. This notice allows for an additional 30 days for public comments.

Agency: U.S. Census Bureau, Department of Commerce.

Title: School District Review Program.

OMB Control Number: 0607-0987.

Form Number(s): None.

Type of Request: Regular submission, Request for a Revision of a Currently Approved Collection.

Number of Respondents: 156.

• Annotation Phase: 52.

• Verification Phase: 52.

• Feedback: 52.

Average Hours per Response: 41 hours.

• Annotation Phase: 30 hours.

• Verification Phase: 10 hours.

• Feedback: 1 hour.

Burden Hours: 2,132 hours.

• Annotation Phase: 1,560 hours.

• Verification Phase: 520 hours.

• Feedback: 52 hours.

Needs and Uses: The School District Review Program (SDRP) is a U.S. Department of Education National Center for Education Statistics (NCES) sponsored program conducted annually by the U.S. Census Bureau. It is of vital importance for each state's allocation of federal funding under Title I of the Elementary and Secondary Education Act as amended by the Every Student Succeeds Act of 2015, Public Law 114-95. School district information submitted through this program, along with the decennial census population, Small Area Income and Poverty Estimates, and current population estimates, are used in forming the Census Bureau's estimates of the number of children ages 5 through 17 in families in poverty for each school district. The U.S Department of Education uses these estimates to allocate more than $17 billion annually in Title I funds.

The SDRP encompasses the review of Type 1, Type 2, and Type 3 school districts as defined by the NCES. Type 1 is a local school district that is not a component of a supervisory union. Type 2 is a local school district component of a supervisory union sharing a superintendent and administrative services with other local school districts. Type 3 is an education agency that performs administrative services for more than one school district, providing a common superintendent for participating districts.

Respondents to the SDRP are the mapping coordinators and Title I Coordinators from the fifty states and the District of Columbia. The NCES also anticipates the inclusion of the Commonwealth of Puerto Rico within the next three years. Mapping coordinators are designated by the state departments of education and are tasked with reviewing and providing updates for school district boundaries, federally assigned school district local education agency codes, names, grade ranges, and levels to the Census Bureau. Title I Coordinators are responsible for overseeing the SDRP and reviewing all materials.

There are two phases to the SDRP: the Annotation Phase and Verification Phase. During the Annotation Phase, the Census Bureau provides mapping coordinators with materials containing the latest school district boundaries and school district information that the Census Bureau has on file for their state. Mapping coordinators review the data and submit any changes to the Census Bureau. The Census Bureau reviews and processes the information submitted by the mapping coordinator and updates the Master Address File/Topologically Integrated Geographic Encoding and Referencing (MAF/TIGER) System. During the Verification Phase, mapping coordinators verify that the Census Bureau updated the MAF/TIGER System accurately and completely with updates submitted during the Annotation Phase.

The Census Bureau is adding a feedback component to allow for the solicitation of feedback from respondents to improve the administration of the program and potentially reduce the future burden. Respondents may be asked to provide their feedback on materials, method(s) of data collection, manner of communications, and the usability of program applications and tools.

Affected Public: All fifty states, the District of Columbia, and the Commonwealth of Puerto Rico.

Frequency: Annually.

Respondent's Obligation: Voluntary.

Legal Authority: Title 13 U.S.C. 16, 141, and 193. NCES Legal Authority: Title I of the Elementary and Secondary Education Act as amended by the Every Student Succeeds Act of 2015, Public Law 114-95.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0607-0987.

Sheleen Dumas,
Department PRA Clearance Officer, Office of the Under Secretary for Economic Affairs, Commerce Department.

[FR Doc. 2024-11828 Filed 5-29-24; 8:45 am]

BILLING CODE 3510-07-P